DEPARTMENT OF ENERGY

Federal Energy Regulatory Commission

[Docket No. EL18-192-000]

North Carolina Electric Membership Corporation v. Duke Energy Progress, LLC; Notice of Complaint

Take notice that on August 10, 2018, pursuant to section 206 of the Federal Power Act, 16 U.S.C. 824e, Rule 206 of the Federal Energy Regulatory Commission's (Commission) Rules of Practice and Procedure, 18 CFR 385.206 (2018), and section 16.1 of the Fifth Amended and Restated Power Supply and Coordination Agreement between Duke Energy Progress, LLC (DEP or Respondent) and the North Carolina Electric Membership Corporation (NCEMC or Complainant), FERC Rate Schedule No. 182, NCEMC filed a formal complaint against DEP alleging that the Respondent's Fixed Demand Rate, Variable Demand Rate, and the formula production rate that will go into effect January 1, 2020, are excessive, unjust and unreasonable, and not cost-based as required by the Respondent's Market-Based Rate Tariff, as more fully explained in the complaint.

The Complainant certifies that copies of the complaint were served on the contacts for the Respondent listed on the Commission's list of Corporate Officials and on the North Carolina Utilities Commission and the South Carolina Public Service Commission.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on August 30, 2018.

Dated: August 13, 2018.
Kimberly D. Bose,
Secretary.

[FR Doc. 2018-17761 Filed 8-16-18; 8:45 am]

BILLING CODE 6717-01-P